DEPARTMENT OF JUSTICE

Drug Enforcement Administration

Importer of Controlled Substances; Notice of Application; SA INTL GMBH C/O., Sigma Aldrich Co., LLC

Correction

In notice document 2012-19191 appearing on pages 47106-47108 in the issue of Tuesday, August 7, 2012, make the following corrections:

1. On page 47106, in the third column, the document heading should appear as set forth above.

2. On page 4707, in the sixth paragraph following the table, in the eighth line of text, “September 6, 2012” should read “September 19, 2012”.

[FR Doc. C1-2012-19191 Filed 8-17-12; 8:45 am]

BILLING CODE 1505-01-D